DEPARTMENT OF JUSTICE

Notice of Lodging of Proposed Consent Decree Under the Clean Air Act

On July 1, 2024, the Department of Justice lodged a proposed consent decree with the United States District Court for the Southern District of New York in the lawsuit entitled United States v. Gristede's Foods NY, Inc., Civil Action No. 24 Civ. 4981.

The United States filed this lawsuit seeking injunctive relief and civil penalties for violations of the Clean Air Act against defendant Gristede's Foods NY, Inc. (“Gristedes”) for violations of the United States Environmental Protection Agency's (“EPA”) Recycling and Emissions Reduction Rule, 40 CFR part 82, subpart F, for failing to take actions necessary to monitor, prevent, leak, and record refrigerant emissions.

The consent decree requires Gristedes to implement a new Refrigerant Compliance Management Plan; to reduce its company-wide refrigerant leak rates; to repair or replace specified appliances; to convert certain stores to using more advanced refrigerants; and to pay a $400,000 civil penalty to the United States.

The publication of this notice opens a period for public comment on the consent decree. Comments should be addressed to the Assistant Attorney General, Environment and Natural Resources Division, and should refer to United States v. Gristede's Foods NY, Inc., D.J. Ref. No. 90-5-2-1-12759. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the consent decree may be examined and downloaded at this Justice Department website: http://www.justice.gov/enrd/consent-decrees. If you require assistance accessing the consent decree, you may request assistance by email or by mail to the addresses provided above for submitting comments.

Jeffrey Sands,
Assistant Section Chief, Environmental Enforcement Section, Environment and Natural Resources Division.

[FR Doc. 2024-14916 Filed 7-5-24; 8:45 am]

BILLING CODE 4410-15-P